DEPARTMENT OF HOMELAND SECURITY

[Docket No. FEMA-2020-0031]

Privacy Act of 1974; System of Records

AGENCY: Federal Emergency Management Agency, U.S. Department of Homeland Security.

ACTION: Notice of a Modified System of Records.

SUMMARY: In accordance with the Privacy Act of 1974, the U.S. Department of Homeland Security (DHS) proposes to modify a current system of records titled, “DHS/Federal Emergency Management Agency (FEMA)-014 Hazard Mitigation Planning and Flood Mapping Products and Services Records System of Records.” This system of records allows DHS/FEMA to collect and maintain records on individuals who are involved in the creation and updating of flood maps, individuals requesting information on flood map products or services, and individuals involved with hazard mitigation planning. DHS/FEMA is updating this system of records notice to (1) modify the records' location; (2) update the authority for maintenance of the system; (3) update the purpose of the system; (4) revise the categories of individuals covered by the system; (5) update the categories of records in the system; (6) update record source categories; and (7) revise and add routine uses.

DATES: Submit comments on or before February 10, 2021. This modified system will be effective upon publication. New or modified routine uses will be effective February 10, 2021.

ADDRESSES: You may submit comments, identified by docket number FEMA-2020-0031 by one of the following methods:

• Federal e-Rulemaking Portal: http://www.regulations.gov. Follow the instructions for submitting comments.

• Fax: 202-343-4010.

• Mail: Constantina Kozanas, Chief Privacy Officer, Privacy Office, U.S. Department of Homeland Security, Washington, DC 20528-0655.

Instructions: All submissions received must include the agency name and docket number FEMA-2020-0031. All comments received will be posted without change to http://www.regulations.gov, including any personal information provided.

Docket: For access to the docket to read background documents or comments received, go to http://www.regulations.gov.

FOR FURTHER INFORMATION CONTACT: For general questions, please contact: Tammi Hines, (202) 212-5100, FEMA-Privacy@fema.dhs.gov, Acting Senior Director for Information Management, Federal Emergency Management Agency, U.S. Department of Homeland Security, Washington, DC 20528. For privacy questions, please contact: Constantina Kozanas, (202) 343-1717, Privacy@hq.dhs.gov, Chief Privacy Officer, Privacy Office, U.S. Department of Homeland Security, Washington, DC 20528-0655.

SUPPLEMENTARY INFORMATION:

I. Background

This modified system of records notice is being published because the Federal Emergency Management Agency (FEMA) collects, maintains, uses, retrieves, and disseminates personally identifiable information of public officials, certifiers, applicants, and homeowners who are involved in the Hazard Mitigation and Flood Mapping Process. FEMA administers the National Flood Insurance Program (NFIP) and Hazard Mitigation Planning programs. The Robert T. Stafford Disaster Relief and Emergency Assistance Act, as amended by the Disaster Mitigation Act of 2000, provides the legal basis for FEMA and other government agencies to undertake a risk-based approach to reducing losses from natural hazards through mitigation planning. The Federal Insurance Mitigation Administration's (FIMA) Mitigation Planning Program oversees and provides guidance to state, local, tribal, and territorial (SLTT) governments that are required to develop a FEMA-approved risk-based hazard mitigation plan. This plan is a precondition for receiving non-emergency disaster assistance from the federal government, including funding for flood hazard mitigation projects. FEMA collaborates with SLTT mitigation planners and risk analysts to support the development, review, and approval of SLTT hazard mitigation plans, tracks planned mitigation actions, and facilitates collaboration among planners and risk analysts.

The National Flood Insurance Act of 1968 (NFIA) (42 U.S.C. 4001 et seq.), and as further amended by the Biggert Waters Flood Insurance Reform Act of 2012, Public Law 112-141, establishes that FEMA will provide flood insurance in communities that participate in the NFIP by adopting and enforcing floodplain management ordinances that meet the minimum NFIP requirements. The law requires FEMA to provide, maintain, and make public flood hazard information and maps to support floodplain management and insurance activities. FEMA's regulations implementing NFIA, including the flood mapping program, may be found in 44 CFR 59-72.

The NFIA requires insurance companies that write flood insurance policies on behalf of the NFIP to use FEMA flood maps to determine insurance rates. These flood maps consist of zones or areas. Flood hazard areas identified on FEMA flood maps are identified as a Special Flood Hazard Area (SFHA). SFHA is defined as the area that will be inundated by a flood event having a 1-percent chance of being equaled or exceeded in any given year. The 1-percent-annual-chance flood is also referred to as the base flood or 100-year flood. SFHAs are labeled as Zone A, Zone AO, Zone AH, Zones A1-A30, Zone AE, Zone A99, Zone AR, Zone AR/AE, Zone AR/AO, Zone AR/A1-A30, Zone AR/A, Zone V, Zone VE, and Zones V1-V30. Moderate flood hazard areas, labeled Zone B or Zone X (shaded) are also shown on the maps, and are the areas between the limits of the base flood and the 0.2-percent annual-chance (or 500-year) flood. The areas of minimal flood hazard, which are the areas outside the SFHA and higher than the elevation of the 0.2-percent-annual-chance flood, are labeled Zone C or Zone X (unshaded).

Members of the public view and review these FEMA maps and related products online free of charge to understand a property's flood risk. Other related information may also be shown on different layers that can be seen on FEMA's National Flood Hazard Layer available at msc.fema.gov. In addition, community officials must use these maps to manage development in flood-prone areas.

FEMA flood maps are subject to revision through the Letters of Map Change (LOMC) administrative process. Letters of Map Changes are documents issued by FEMA to revise or amend the flood hazard information shown on the Flood Insurance Rate Map (FIRM) in response to requests from community officials and property owners. Letters of Map Changes include two types of map changes: Letter of Map Amendment (LOMA) or Letter of Map Revision (LOMR). The procedures for both types of map changes are outlined in 44 CFR 70 and 65, respectively. LOMRs modify small portions of flood maps based on scientific and technical information submitted to FEMA with a request to revise flood maps. Conditional Letters of Map Revision (CLOMR) are provisional findings for flood map revisions based on scientific and technical data based on proposed changes to floodplain conditions.

Letters of Map Revision Based on Fill (LOMR-F) and Conditional LOMR-Fs are specific types of (C)LOMR-based floodplain changes consisting only of placement of earthen fill to raise the ground level in the floodplain. LOMAs are modifications to the regulatory floodplain based on documentation that adjacent grade for a particular property or structure is naturally higher than the predicted flood elevation and was therefore inadvertently included in the floodplain. A Conditional LOMA (CLOMA) is a provisional finding that the adjacent grade for a proposed structure was inadvertently included in the floodplain. A Letter of Determination Review (LODR) is a finding by FEMA of whether the documentation provided by the requester shows a particular property to be in the floodplain or not.

Adequate Progress (Zone A99) determinations, regulated through 44 CFR 61.12, provide for lower flood insurance premium rates in areas where FEMA determines that a community has made adequate progress on its construction or reconstruction of a project designed for flood risk reduction. These areas, landward of the flood protection system, are designated as Zone A99 on the FIRM and flood insurance premium rates and floodplain management requirements are generally less than those required in other SFHAs (e.g., Zone AE, Zone AO, and Zone AH). Flood Protection Restoration (Zone AR) determinations, regulated through 44 CFR 65.14, may provide reduced flood insurance premium rates and floodplain management regulations in areas where FEMA has issued a determination that a project is sufficiently underway to restore a flood protection system to meet 44 CFR 65.10 accreditation requirements. Areas landward of the flood protection system that are being rehabilitated are designated as Zone AR on the FIRM, and may have base flood elevations (BFE) representing the current risk as if the flood protection system was not in place.

FEMA accepts, reviews, and tracks applications from levee owners and communities seeking Zone AR designations, Zone A99 designations, and recognition of accredited levee systems on FIRMs. To support a mapping project, levee owners and communities have the responsibility to provide documentation that either a levee system meets the requirements of 44 CFR 65.10 to have the levee system shown as accredited (i.e., provide protection from the 1-percent-annual-chance flood) or the levee system meets the mapping procedure(s) for non-accredited levee systems.

FEMA performs the following tasks in support of flood mapping:

• Identify and prioritize the need for flood hazard data updates;

• Schedule and track progress and quality of flood hazard and risk studies;

• Conduct community outreach and coordinate with SLTT officials and the public on the flood hazard and risk study process;

• Collect information to support flood hazard analysis from a wide variety of sources including SLTT government organizations and other organizations such as levee owners;

• Provide public review of the proposed flood hazard data;

• Adjudicate administrative appeals to flood hazards and flood elevations;

• Coordinate and track the request and processing of flood map revisions and amendments;

• Publish and distribute map revisions, amendments, flood hazard and risk data, maps, and related information;

• Respond to inquiries from stakeholders and help to resolve issues related to flood maps;

• Monitor the effectiveness of program delivery and stakeholder satisfaction; and

• Collaborate with SLTT mitigation planners and risk analysts to support the development, review, and approval of SLTT hazard mitigation plans, track planned mitigation actions, and facilitate collaboration among planners and risk analysts.

The administrative appeals processes referenced above satisfy due process obligations owed to affected communities and property holders. This requirement includes making available to the public the relevant data documenting the scientific and technical basis of the maps and documenting the community and public coordination processes associated with the development and publication of the maps. The NFIA also requires participating communities to adopt these maps as the basis for their land use regulations.

FEMA obtains information about individuals in various forms (paper and electronic): By communicating with SLTT officials, their contractors, and community members about flood maps and hazard mitigation plans; by collecting requests for LOMCs from public records; through FEMA's websites; and by operating call centers. These activities allow FEMA to assist states with mitigation planning, as well as to ensure FIRMs are accurate and up to date.

FEMA is updating this system of records notice to reflect the following changes. First, the system location has been updated to more accurately reflect the location of the records at the FEMA Headquarters in Washington, DC and at field offices and electronically in the Risk Analysis and Management (RAM) System (formerly Mapping Information Platform (MIP) system, the Map Service Center, and Risk Map collaboration sites) and LOMA-Logic. Second, the Biggert Waters Flood Insurance Reform Act of 2012, Public Law 112-141, 126 Stat. 916 (and codified in sections of 42 U.S.C. secs. 4101-4130) was added as an authority for maintenance of the system and provides for public disclosure flood hazard information and maps to support floodplain management and insurance activities. Third, the purpose of the system is being updated to document the broader flood mapping, risk analysis, and hazard mitigation planning functions supported by the system, and to include community outreach, including public meetings, in the hazard mitigation and flood mapping processes. Fourth, the categories of individuals have been revised to clarify that property owners include applicants for letters of map change and to more accurately reflect individuals solicited to attend public meetings related to flood hazard identification and hazard mitigation and flood mapping activities. Fifth, the categories of records have been updated to clarify that information collected regarding property owners includes applicants for Letters of Map Change; to include business website and business social media account information for public officials, certifiers, and others included in the approval process; and to include public records (including voter records, tax records, real estate records, or directories) that are collected to conduct outreach for attendance in public meetings related to Letters of Map Change. Sixth, record source categories are being updated to clarify that records come from homeowners, tenants, state/local/tribal/territorial government, and public records. Seventh, Routine Use E is being modified and Routine Use F is being added to conform to Office of Management and Budget Memorandum M-17-12 regarding breach notification and investigation. Routine Use K was added to reflect that pursuant to the National Flood Insurance Act, FEMA routinely makes available to the public: Name, business contact information, and professional license information for public officials, certifiers, engineers, and other licensed professionals and their staff who participate in the development, update, and approval of flood hazard maps. Additionally, this routine use reflects that the address of the subject property is also publicly disclosed. Routine Use L was added to account for testing of new technology compatible with the purpose of this system of records.

Furthermore, this notice includes non-substantive changes to simplify the formatting and text of the previously published notice.

Consistent with DHS's information sharing mission, information stored in the DHS/FEMA-014 Hazard Mitigation Planning and Flood Mapping Products and Services System of Records may be shared with other DHS Components that have a need to know the information to carry out their national security, law enforcement, immigration, intelligence, or other homeland security functions. In addition, DHS/FEMA may share information with appropriate federal, state, local, tribal, territorial, foreign, or international government agencies consistent with the routine uses set forth in this system of records notice.

This modified system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the JRA, along with judicial review for denials of such requests. In addition, the JRA prohibits disclosures of covered records, except as otherwise permitted by the Privacy Act.

Below is the description of the DHS/FEMA-014 Hazard Mitigation Planning and Flood Mapping Products and Services Records.

In accordance with 5 U.S.C. sec. 552a(r), DHS has provided a report of this system of records to the Office of Management and Budget and to Congress.

SYSTEM NAME AND NUMBER:

U.S. Department of Homeland Security (DHS)/Federal Emergency Management Agency (FEMA)-014 Hazard Mitigation Planning and Flood Mapping Products and Services Records System of Records.

SECURITY CLASSIFICATION:

Unclassified.

SYSTEM LOCATION:

Records are maintained at the FEMA Headquarters in Washington, DC and field offices. Additionally, records may be located in the Risk Analysis and Management (RAM) system (formerly Mapping Information Platform (MIP) system, the Map Service Center, and Risk Map collaboration sites) and the LOMA-Logic system.

Primary Production Server/Data Storage Locations:

Alleghany Ballistics Laboratory Data Center (Operated by IBM), Rocket Center, WV

CDS Operations Sites:

Primary Local Operations Site (Operated by IBM), Fairfax, VA

Alleghany Ballistics Laboratory Data Center (Operated by IBM), Rocket Center, WV

Secondary Local Operations Site (Operated by Michael Baker International), Alexandria, VA

Backup Data Storage Sites (In Addition to Sites Already Listed Above):

Alleghany Ballistics Laboratory (Operated by IBM), Rocket Center, WV

Iron Mountain Secure Offsite Storage, Various U.S. locations

SYSTEM MANAGER(S):

Program Management, Risk Management Program, Federal Insurance and Mitigation Administration, 400 C Street SW, Washington, DC 20472.

AUTHORITY FOR MAINTENANCE OF THE SYSTEM:

The National Flood Insurance Act of 1968, as amended, including the Biggert Waters Flood Insurance Reform Act of 2012, Public Law 112-141, 126 Stat. 916 (codified in sections of 42 U.S.C. secs. 4001-4130); The Robert T. Stafford Disaster Relief and Emergency Assistance Act, as amended by the Disaster Mitigation Act of 2000 (DMA 2000), Public Law 106-390, 14 Stat. 1552; and 44 CFR parts 59-72.

PURPOSE(S) OF THE SYSTEM:

The purposes of this system of records are to support FEMA's flood mapping, risk analysis, and hazard mitigation planning functions, which are to: Identify and prioritize the need for flood hazard updates; schedule and track progress and quality of flood hazard and risk studies; conduct community outreach and coordinate with SLTT officials and the public on the flood hazard and risk study process; collect information to support flood hazard analysis from a wide variety of sources, including SLTT government organizations and other organizations such as levee owners; provide public review of the proposed flood hazard data; adjudicate administrative appeals to flood hazards and flood elevations; coordinate and track the request and processing of flood map revisions and amendments; publish and distribute flood hazard and risk data, maps, and related information, as well as updates, revisions, and amendments thereto; respond to inquiries from stakeholders and help to resolve issues related to flood maps; monitor the effectiveness of program delivery and stakeholder satisfaction; and collaborate with SLTT officials to support the development, review, and approval of SLTT hazard mitigation plans, track planned mitigation actions, and facilitate collaboration among planners and risk analysts.

CATEGORIES OF INDIVIDUALS COVERED BY THE SYSTEM:

Members of the general public, including: Letters of map change applicants/property owners, developers, investors, and their representatives; realtors; certifiers, including Registered Professional Engineers and Licensed Land Surveyors; state, local, tribal, or territorial government officials with authority over a community's flood plain management activities, which includes Mapping Review Partners (MRP); potential or confirmed respondents to customer service surveys/focus groups; potential or confirmed attendees at FEMA's public meetings or other outreach activities related to flood hazard identification and flood mapping activities; and FEMA staff and stakeholders registered to use FEMA's information technology systems and collaboration sites.

CATEGORIES OF RECORDS IN THE SYSTEM:

• Full name;

• Position or title;

• Email addresses;

• Addresses (mailing and property);

• Business website or business social media account information;

• Public Records (such as voter records, tax records, real estate records, or directories) to conduct outreach activities;

• Company or community name;

• Organization or agency name;

• Six-digit NFIP community number;

• Fax number;

• Professional license number;

• Professional license expiration date;

• Signature;

• Signature date;

• Fill placement and date;

• Type of construction;

• Elevation data;

• Base Flood Elevation (BFE) data;

• Legal property description;

• FEMA region number (1-10);

• Transcripts of conversations with FEMA call centers or helpdesk including name, address, phone number, email address, caller type (e.g., property owner, realtor), chat subject, and chat subject category;

• Bank name and account information including electronic funds transfer, and credit/debit card account information;

• Payment confirmation number;

• User account creation and access information; and

○ Username;

○ Activation code;

○ Password;

○ Roles and responsibilities;

○ Challenge questions and answers; and

○ System permissions or permission levels.

• Voluntary response to customer satisfaction and experience surveys and focus groups, including demographic information about the individual.

RECORD SOURCE CATEGORIES:

Records are obtained from individuals (e.g., home and property owners, tenants, investors, and property developers, or their representatives); LOMC Certifiers (e.g., Registered Professional Engineers and Licensed Land Surveyors); state, local, tribal, or territorial government officials, including those with authority over a community's floodplain management activities or other land use, which includes MRPs; FEMA staff and stakeholders registered to use SharePoint information and collaboration portals; the FEMA Community Information System (CIS) system; and the cloud-based LOMA-LOGIC tool. Records may also be obtained from public records maintained by SLTT or private entities, such as tax records, real estate records, voter records or directories.

ROUTINE USES OF RECORDS MAINTAINED IN THE SYSTEM, INCLUDING CATEGORIES OF USERS AND PURPOSES OF SUCH USES:

In addition to those disclosures generally permitted under 5 U.S.C. sec. 552a(b) of the Privacy Act, all or a portion of the records or information contained in this system may be disclosed outside DHS as a routine use pursuant to 5 U.S.C. sec. 552a(b)(3) as follows:

A. To the Department of Justice (DOJ), including the U.S. Attorneys Offices, or other federal agencies conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the federal government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To state and local governments pursuant to signed agreements allowing such governments to assist FEMA in making LOMC determinations.

J. To the U.S. Department of the Treasury for the processing of payments for products and services.

K. To the public, in accordance with the National Flood Insurance Act, the following information: Names and business contact information of certifiers, public officials, and others involved in the development, update, and approval of flood hazard maps, including business websites or business social media account information as well as the address of the subject property. This does not include names or other information regarding the applicant/property owner.

L. To appropriate federal, state, local, tribal, or foreign governmental agencies or multilateral governmental organizations, with the approval of the Chief Privacy Officer, when DHS is aware of a need to use relevant data, that relate to the purpose(s) stated in this SORN, for purposes of testing new technology.

M. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/FEMA stores records in this system electronically or on paper in secure facilities in a locked drawer behind a locked door. The records may be stored on magnetic disc, tape, and digital media.

POLICIES AND PRACTICES FOR RETRIEVAL OF RECORDS:

DHS/FEMA retrieves records by name, address information, legal description of property, order number, and account number.

POLICIES AND PRACTICES FOR RETENTION AND DISPOSAL OF RECORDS:

In accordance with NARA authority N1-311-01-2, item 1, and FEMA records disposition schedule FIA 1-2-2, FEMA retires community case file materials to off-site storage when the record is three years old and destroys the record 100 years after the retirement date.

In accordance with NARA authority N1-311-86-1, item 2.A.2, and FEMA Records Disposition Schedule FIA-2, appeals records are cut off after the appeal is resolved or the appealed map becomes effective and are retired two years after cutoff. FEMA destroys appeals records 20 years after cutoff.

Pursuant to NARA authority N1-311-86-1, item 2.A.3, and FEMA Records Disposition Schedule FIA-3, digital preliminary flood maps are destroyed five years after FEMA issues a flood elevation determination or insurance rate map.

Pursuant to NARA authority N1-311-86-1, item 2.A.4, and FEMA Records Disposition Schedule FIA-4, flood elevation determination (or insurance rate) maps are permanent, cut off when superseded, and transferred directly to the National Archives five years after cutoff, or sooner, for permanent storage.

Pursuant to NARA authority DAA-GRS-2016-0012-0002, NARA's General Record Schedule 5.5, item 20, and FEMA Records Disposition Schedule COMM 2, FEMA stores copies of checks and credit card numbers received by mail from stakeholders who request changes to the flood maps and who request engineering library services to obtain copies of flood map information for one year.

ADMINISTRATIVE, TECHNICAL, AND PHYSICAL SAFEGUARDS:

DHS/FEMA safeguards records in this system according to applicable rules and policies, including all applicable DHS automated systems security and access policies. DHS/FEMA has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and FEMA's Freedom of Information Act (FOIA) Officer, whose contact information can be found at http://www.dhs.gov/foia under “Contact Information.” If an individual believes more than one component maintains Privacy Act records concerning him or her, the individual may submit the request to the Chief Privacy Officer and Chief Freedom of Information Act Officer, U.S. Department of Homeland Security, Washington, DC 20528-0655. Even if neither the Privacy Act nor the Judicial Redress Act (JRA) provide a right of access, certain records about you may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. sec. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why he or she believes the Department would have information being requested;

• Identify which component(s) of the Department he or she believes may have the information;

• Specify when the individual believes the records would have been created; and

• Provide any other information that will help the FOIA staff determine which DHS component agency may have responsive records.

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

For records covered by the Privacy Act or covered JRA records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record.

NOTIFICATION PROCEDURES:

See “Record Access Procedures” above.

EXEMPTIONS PROMULGATED FOR THE SYSTEM:

None

HISTORY:

82 FR 49404 (October 25, 2017); 71 FR 7990 (February 15, 2006).

Constantina Kozanas,
Chief Privacy Officer, U.S. Department of Homeland Security.

[FR Doc. 2021-00307 Filed 1-8-21; 8:45 am]

BILLING CODE 9111-19-P